DEPARTMENT OF THE INTERIOR

Bureau of Land Management

[LLCA9300000;L14300000;EU0000;CAS 074589]

Notice of Intent To Prepare an Amendment to the Redding Resource Management Plan and an Associated Environmental Assessment, CA

AGENCY: Bureau of Land Management, Interior.

ACTION: Notice.

SUMMARY: In compliance with the National Environmental Policy Act of 1969, as amended (NEPA), and the Federal Land Policy and Management Act of 1976, as amended (FLPMA), the Bureau of Land Management (BLM), Redding Field Office, Redding, California, intends to prepare an amendment to the 1993 Redding Resource Management Plan (RMP) with an associated Environmental Assessment (EA) to analyze the sale of the reversionary interest held by the United States (U.S.) in 5 acres of land previously conveyed out of Federal ownership and by this notice is announcing the beginning of the scoping process to solicit public comments and identify issues.

DATES: This notice initiates the public scoping process for the RMP amendment with associated EA. Comments on issues may be submitted in writing until January 3, 2013. In order to be included in the analysis, all comments must be received prior to the close of the 30-day scoping period. We will provide additional opportunities for public participation as appropriate.

ADDRESSES: You may submit comments on issues and planning criteria related to the Redding RMP amendment and associated EA by any of the following methods:

• Email: iemry@blm.gov.

• Fax: 530-224-2172.

• Mail: Jennifer Mata, BLM Redding Field Manager, 355 Hemsted Drive, Redding, CA 96002.

Documents pertinent to this proposal may be examined at the Redding Field Office, 355 Hemsted Drive, Redding, CA 96002.

FOR FURTHER INFORMATION CONTACT: Ms. Ilene Emry, Realty Specialist, BLM Redding Field Office, telephone 530-224-2122; address 355 Hemsted Drive, Redding California 96002; email iemry@blm.gov. You may also request to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM Redding Field Office, Redding, California is providing notice that it intends to prepare an RMP amendment with an associated EA for the 1993 Redding RMP; announces the beginning of the scoping process; and seeks public input on issues and planning criteria. The planning area is located in Butte County, California, and encompasses the reversionary interest held by the U.S. in 5 acres of land previously conveyed out of Federal ownership. The BLM has received a request from the Forbestown Lodge No. 50, Free and Accepted Masons, to purchase the reversionary held by the U.S., in the following described land:

Mount Diablo Meridian

T. 19 N., R. 6 E.,

Sec. 10, lot 27.

The area described aggregates 5.00 acres, more or less, in Butte County, California.

The land described above was conveyed in 1971 to the Forbestown Lodge No. 50, Free and Accepted Masons, a California non-profit association, under the authority of the Recreation and Public Purposes Act of June 14, 1926 (R&PP), for use as a public recreation site and meeting hall for the Lodge and public. The land is surrounded by private land, and is not contiguous to any other public land. When public land is conveyed under the authority of the R&PP, the U.S. retains a reversionary interest in the land which could result in title to the land reverting to the U.S. if the land is not used for the purposes for which it was conveyed or if the land is sold or transferred without the BLM's approval. The BLM is responsible for monitoring these reversionary interests in perpetuity to ensure the lands are used for the purposes for which they were conveyed. The reversionary interest in the land described above was not specifically identified for sale in the 1993 Redding RMP, as amended, and a plan amendment is required to process a direct sale. The purpose of the public scoping process is to determine relevant issues that will influence the scope of the environmental analysis, including alternatives, and will guide the planning process. The BLM anticipates that the EA will consider both a plan amendment and the subsequent sale of the land and has identified local land uses and input from local governments as the primary preliminary issue of concern. The BLM anticipates that the EA will include, at a minimum, input from the disciplines of land use planning, biology and archaeology. This plan amendment will be limited to an analysis of whether the reversionary interest in the land described above meets the criteria for sale under Section 203 of the FLPMA, which are the planning criteria for this amendment.

You may submit comments on issues and planning criteria in writing to the BLM using one of the methods listed in the “ADDRESSES” section above. To be most helpful, you should submit comments by the close of the 30-day scoping period.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both the NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request, or be requested by the BLM, to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7 and 43 CFR 1610.2

Cynthia Staszak,
Associate Deputy State Director Resources, California.

[FR Doc. 2012-29227 Filed 12-3-12; 8:45 am]

BILLING CODE 4310-40-P